OFFICE OF THE UNITED STATES TRADE REPRESENTATIVE

[Docket No. USTR-2016-0026]

2017 Special 301 Review: Identification of Countries Under Section 182 of the Trade Act of 1974; Request for Public Comment and Notice of Public Hearing; Correction

AGENCY: Office of the United States Trade Representative.

ACTION: Request for comments and notice of public hearing; correction.

SUMMARY: The Office of the United States Trade Representative (USTR) published a document in the Federal Register on December 28, 2016 (81 FR 95722), concerning a request for comments and notices of intent to appear at a public hearing on Section 182 of the Trade Act of 1974, commonly referred to as the “Special 301” provisions. The dates specified in the notice have changed. Additional information on the hearing is also provided.

FOR FURTHER INFORMATION CONTACT: Christine Peterson, Director for Innovation and Intellectual Property, Office of the United States Trade Representative, at special301@ustr.eop.gov. You can find information about the Special 301 Review at www.ustr.gov.

Corrections

“Dates” Caption

In the Federal Register on December 28, 2016 (81 FR at 95722), correct the “Dates” caption to read as follows:

The corrected schedule and deadlines for the 2017 Special 301 public hearing are as follows:

March 8, 2017: The Special 301 Subcommittee will hold a public hearing at the Office of the United State Trade Representative, 1724 F Street NW., Rooms 1&2, Washington, DC 20508. If necessary, the hearing may continue on the next business day. Please consult the USTR Web site for confirmation of the date and location and the schedule of witnesses.

March 14, 2017 at midnight EST: Post-hearing written comments from persons who testified at the public hearing are due.

On or about April 30, 2017: USTR will publish the 2017 Special 301 Report within 30 days of the publication of the National Trade Estimate (NTE) Report.

“Public Hearing” Caption

In the Federal Register on December 28, 2016 (81 FR at 95723), correct the “Public Hearing” caption to read as follows:

III. Public Hearing

The Special 301 Subcommittee will hold a public hearing on March 8, 2017, at the Office of the United State Trade Representative, 1724 F Street NW., Rooms 1&2, Washington, DC 20508, at which interested persons, including representatives of foreign governments, may appear to provide oral testimony. If necessary, the hearing may continue on the next business day. The hearing will be open to the public. Because the hearing will take place in Federal facilities, security screening will be required. Attendees will need to show photo identification and be screened for security purposes. Please consult www.ustr.gov to confirm the date and location of the hearing and to obtain copies of the hearing schedule. USTR also will post the transcript and recording of the hearing on the USTR Web site as soon after the hearing as possible.

Prepared oral testimony before the Special 301 Subcommittee must be delivered in person, in English, and will be limited to five minutes. Subcommittee member agencies may ask questions following the prepared statement. Persons, except representatives of foreign governments, wishing to testify at the hearing must submit a “Notice of Intent to Testify” and “Hearing Statement” by the February 9, 2017, deadline to www.regulations.gov following the procedures set forth in part IV below. The Notice of Intent to Testify must include the name of the witness, name of the organization (if applicable), address, telephone number, fax number, and email address. A Hearing Statement must accompany the Notice of Intent to Testify. There is no requirement regarding the length of the Hearing Statement; however, the content of the testimony must be relevant to the Special 301 Review.

All representatives of foreign governments that wish to testify at the hearing must submit a “Notice of Intent to Testify” by the February 23, 2017, deadline to www.regulations.gov following the procedures set forth in part IV below. The Notice of Intent to Testify must include the name of the witness, name of the organization (if applicable), address, telephone number, fax number, and email address. Although not mandatory, government witnesses may submit a Hearing Statement when filing the Notice of Intent to Testify.

Probir Mehta,
Assistant United States Trade Representative for Innovation and Intellectual Property, Office of the United States Trade Representative.

[FR Doc. 2017-02251 Filed 2-2-17; 8:45 am]

BILLING CODE 3290-F7-P